DEPARTMENT OF ENERGY

Federal Energy Regulatory Commission

[Docket No. PR04-6-000]

Cranberry Pipeline Corp.; Notice of Technical Conference

September 5, 2006.

On November 14, 2005, Cranberry Pipeline Corp. (Cranberry) filed a revised statement of operating conditions in order to comply with the Commission's September 13, 2005 order in this proceeding. Cranberry Pipeline Corp., 112 FERC ¶ 61,268 (2005). In its filing, Cranberry stated that if the Consumer Advocate Division of the State of West Virginia Public Service Commission (CAD) renewed its protests of the Statement of Operating Conditions, Cranberry requested that a technical conference be convened. In its December 18, 2005 protest of the compliance filing, CAD stated it had no objection to Cranberry's request for a technical conference.

On January 4, 2006, Cranberry answered the protests of CAD and the Public Service Commission of West Virginia, and reiterated that, in light of the two protests, it requested a technical conference to permit it to support its proposed terms and conditions for storage service, and to permit the parties to explain their respective positions.

Commission Staff therefore intends to hold a technical conference to discuss the issues raised by the protests to the compliance filing, and in addition to discuss operations of the two storage fields as they relate to the design of Cranberry's rates. The technical conference will be held at the office of the Federal Energy Regulatory Commission, 888 First Street, NE., Washington, DC 20426. The date and time of the technical conference will be noticed at a later date.

FERC conferences are accessible under section 508 of the Rehabilitation Act of 1973. For accessibility accommodations please send an e-mail to accessibility@ferc.gov or call toll free (866) 208-3372 (voice) or 202-208-1659 (TTY), or send a fax to 202-208-2106 with the required accommodations.

All interested parties and staff are permitted to attend. For further information please contact Eric Winterbauer at (202) 502-8329 or e-mail eric.winterbauer@ferc.gov.

Magalie R. Salas,
Secretary.

[FR Doc. E6-14969 Filed 9-8-06; 8:45 am]

BILLING CODE 6717-01-P